ENVIRONMENTAL PROTECTION AGENCY

[EPA-HQ-SFUND-2009-0078; FRL-8913-3]

Agency Information Collection Activities; Submission to OMB for Review and Approval; Comment Request; Brownfields Program—Revitalization Grantee Reporting (Renewal); EPA ICR No. 2104.03, OMB Control No. 2050-0192

AGENCY: Environmental Protection Agency (EPA).

ACTION: Notice.

SUMMARY: In compliance with the Paperwork Reduction Act (PRA) (44 U.S.C. 3501 et seq.), this document announces that an Information Collection Request (ICR) has been forwarded to the Office of Management and Budget (OMB) for review and approval. This is a request to renew an existing approved collection. The ICR, which is abstracted below, describes the nature of the information collection and its estimated burden and cost.

DATES: Additional comments may be submitted on or before July 6, 2009.

ADDRESSES: Submit your comments, referencing Docket ID No. EPA-HQ-SFUND-2009-0078, to (1) EPA online using http://www.regulations.gov (our preferred method), by email to docket.superfund@epa.gov, or by mail to: EPA Docket Center, Environmental Protection Agency, Mailcode: 28221T, 1200 Pennsylvania Ave., NW., Washington, DC 20460, and (2) OMB by mail to: Office of Information and Regulatory Affairs, Office of Management and Budget (OMB), Attention: Desk Officer for EPA, 725 17th Street, NW., Washington, DC 20503.

FOR FURTHER INFORMATION CONTACT: Rachel Lentz, Office of Brownfields and Land Revitalization, (5105-T), Environmental Protection Agency, 1200 Pennsylvania Ave., NW., Washington, DC 20460; telephone number: 202-566-2745; fax number: 202-566-1476; e-mail address: lentz.rachel@epa.gov.

SUPPLEMENTARY INFORMATION: EPA has submitted the following ICR to OMB for review and approval according to the procedures prescribed in 5 CFR 1320.12. On February 6, 2009 (74 FR 6286), EPA sought comments on this ICR pursuant to 5 CFR 1320.8(d). EPA received no comments. Any additional comments on this ICR should be submitted to EPA and OMB within 30 days of this notice.

EPA has established a public docket for this ICR under Docket ID No. EPA-HQ -SFUND-2009-0078, which is available for online viewing at http://www.regulations.gov, or in person viewing at the Superfund in the Docket EPA Docket Center (EPA/DC), EPA West, Room 3334, 1301 Constitution Ave., NW., Washington, DC. The EPA/DC Public Reading Room is open from 8:30 a.m. to 4:30 p.m., Monday through Friday, excluding legal holidays. The telephone number for the Reading Room is 202-566-1744, and the telephone number for the Superfund Docket is 202-566-9744.

Use EPA's electronic docket and comment system at http://www.regulations.gov, to submit or view public comments, access the index listing of the contents of the docket, and to access those documents in the docket that are available electronically. Once in the system, select “docket search,” then key in the docket ID number identified above. Please note that EPA's policy is that public comments, whether submitted electronically or in paper, will be made available for public viewing at http://www.regulations.gov as EPA receives them and without change, unless the comment contains copyrighted material, confidential business information (CBI), or other information whose public disclosure is restricted by statute. For further information about the electronic docket, go to http://www.regulations.gov.

Title: Brownfields Program—Revitalization Grantee Reporting (Renewal).

ICR numbers: EPA ICR No. 2104.03, OMB Control No. 2050-0192.

ICR Status: This ICR is scheduled to expire on July 31, 2009. Under OMB regulations, the Agency may continue to conduct or sponsor the collection of information while this submission is pending at OMB. An Agency may not conduct or sponsor, and a person is not required to respond to, a collection of information, unless it displays a currently valid OMB control number. The OMB control numbers for EPA's regulations in title 40 of the CFR, after appearing in the Federal Register when approved, are listed in 40 CFR part 9, are displayed either by publication in the Federal Register or by other appropriate means, such as on the related collection instrument or form, if applicable. The display of OMB control numbers in certain EPA regulations is consolidated in 40 CFR part 9.

Abstract: The Small Business Liability Relief and Brownfields Revitalization Act (Pub. L. 107-118) was signed into law on January 11, 2002. The Act amends the Comprehensive Environmental Response, Compensation, and Liability Act (CERCLA), as amended, and authorizes EPA to award grants to states, tribes, local governments, and other eligible entities to assess and clean up brownfields sites. EPA requires Brownfields program grant recipients to report information to EPA on the uses and accomplishments associated with the funded brownfields activities. EPA uses this information to meet Federal stewardship responsibilities to manage and track how program funds are being spent, to evaluate the performance of the Brownfields Cleanup and Redevelopment Program, to meet the Agency's reporting requirements under the Government Performance Results Act, and to report to Congress and other program stakeholders on the status and accomplishments of the grants program.

This ICR addresses the burden imposed on grant recipients that are associated with those reporting and recordkeeping requirements that are specific to grants awarded under the Small Business Liability Relief and Brownfields Revitalization Act. This ICR renewal modifies the annual reporting and recordkeeping burden under the previous ICR. The modified burden reflects an increase in the number of respondents subject to the reporting and recordkeeping requirements, and improvements to the reporting forms based on EPA's experience implementing the grant program. EPA is also modifying the reporting form to simplify and clarify the reporting requirements, which will improve the accuracy of information reported and minimize the burden to grant recipients.

Burden Statement: The annual public reporting and recordkeeping burden for this collection of information is estimated to average 5 hours per response for job training grant recipients, and 1.25 hours per response for subtitle A assessment, cleanup, and revolving loan fund and subtitle C grant recipients. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements which have subsequently changed; train personnel to be able to respond to a collection of information; search data sources; complete and review the collection of information; and transmit or otherwise disclose the information.

Respondents/Affected Entities: Local governments, Indian Tribes and non-profit organizations.

Estimated Number of Respondents: 544.

Frequency of Response: Bi-annual for subtitle C grant recipients; quarterly for subtitle A grant recipients.

Estimated Total Annual Hour Burden: 16,550.

Estimated Total Annual Cost: $1,584,479, includes $0 annualized capital or O&M costs.

Changes in the Estimates: There is an increase of 7,867 hours in the total estimated burden currently identified in the OMB Inventory of Approved ICR Burdens. This increase is primarily due to an additional $100 million in grant funding for the EPA Brownfields Program in the American Recovery and Reinvestment Act of 2009, the majority of which is going towards awarding approximately 200 additional grants in the first year of the ICR. EPA had to include these stimulus grantees into its ICR in order to collect Property Profile Form data or Job Training Form data to measure environmental accomplishments.

Dated: May 28, 2009.
John Moses,
Director, Collection Strategies Division.

[FR Doc. E9-12934 Filed 6-2-09; 8:45 am]

BILLING CODE 6560-50-P